SECURITIES AND EXCHANGE COMMISSION

[Release 34-44089; File No. 600-22]

Self-Regulatory Organizations; MBS Clearing Corporation; Notice of Filing and Order Approving a Request for an Extension of Temporary Registration as a Clearing Agency

March 21, 2001.

Notice is hereby given that on February 23, 2001, MBS Clearing Corporation (“MBSCC”) filed with the Securities and Exchange Commission (“Commission”) an application pursuant to Section 19(a) of the Securities Exchange Act of 1934 (“Act”) ¹ requesting that the Commission grant MBSCC full registration as a clearing agency or in the alternative extend MBSCC's temporary registration as a clearing agency until such time as the Commission is able to grant MBSCC permanent registration.² The Commission is publishing this notice and order to solicit comments from interested persons and to extend MBSCC's temporary registration as a clearing agency through September 30, 2001.

¹ 15 U.S.C. 78s(a).

² Letter from Anthony Davidson, Managing Director and General Counsel, MBSCC (February 20, 2001).

On February 2, 1987, pursuant to Sections 17A(b) and 19(a) of the Act ³ and Rule 17Ab2-1 promulgated thereunder,⁴ the Commission granted MBSCC registration as a clearing agency on a temporary basis for a period of eighteen months.⁵ The Commission subsequently has extended MBSCC's registration through March 31, 2001.⁶

³ 15 U.S.C. 78q-1(b) and 78s(a).

⁴ 17 CFR 240.17Ab2-1.

⁵ Securities Exchange Act Release No. 24046. (February 2, 1987), 52 FR 4218.

⁶ Securities Exchange Act Release Nos. 25957 (August 2, 1988), 53 FR 29537; 27079 (July 31, 1989), 54 FR 34212; 28492 (September 28, 1990), 55 FR 41148; 29751 (September 27, 1991), 56 FR 50602; 31750 (January 21, 1993), 58 FR 6424; 33348 (December 15, 1993), 58 FR 68183; 35132 (December 21, 1994), 59 FR 67743; 37372 (June 26, 1996), 61 FR 35281; 38784 (June 27, 1997), 62 FR 36587; 39776 (March 20, 1998), 63 FR 14740; 41211 (March 24, 1999), 64 FR 15854; and 42568 (March 23, 2000), 65 FR 16980.

In the most recent extension of MBSCC's temporary registration, the Commission stated that it planned in the near future to seek comment on granting MBSCC permanent registration as a clearing agency. The extension of MBSCC's temporary registration will enable the Commission to do so within the next few months.

Interested persons are invited to submit written data, views, and arguments will be considered by the Commission in granting registration or instituting proceedings to determine whether registration should in accordance with Section 19(a)(1) of the Act.⁷ Persons making written submissions should file six copies thereof with the Secretary, Securities and Exchange Commission, 450 Fifth Street, N.W., Washington, D.C. 20549. Copies of the amended application for registration and all written comments will be available for inspection at the Commission's Public Reference Room, 450 Fifth Street, N.W., Washington, D.C. 20549. All submissions should refer to File No. 600-22 and should be submitted by April 18, 2001.

⁷ 15 U.S.C. 78s(a)(1).

It is therefore ordered that MBSCC's temporary registration as a clearing agency (File No. 600-22) be and hereby is extended through September 30, 2001.

For the Commission, by the Division of Market Regulation, pursuant to delegated authority.⁸
⁸ 17 CFR 200.30-3 (a)(16).
Margaret H. McFarland,
Deputy Secretary.

[FR Doc. 01-7596 Filed 3-27-01; 8:45 am]

BILLING CODE 8010-01-M